DEPARTMENT OF DEFENSE

Department of the Navy

Notice of Availability of Government-Owned Inventions; Available for Licensing

AGENCY: Department of the Navy, DoD.

ACTION: Notice.

SUMMARY: The following invention is assigned to the United States Government as represented by the Secretary of the Navy and made available for licensing by the Department of the Navy: U.S. Patent Application No. 14/591660—“Use of heptadecanoic acid (C17:0) to detect risk of and treat hyperferritinemia and metabolic syndrome”.

ADDRESSES: Request for copies of invention disclosures cited should be directed to Space and Naval Warfare Systems Center Pacific, Office of Research and Technology Applications, Code 72120, 53560 Hull St., Bldg. A33 Room 2531, San Diego, CA 92152-5001.

FOR FURTHER INFORMATION CONTACT: Brian Suh, Office of Research and Technology Applications, Space and Naval Warfare Systems Center Pacific, Code 72120, 53560 Hull St., Bldg. A33 Room 2531, San Diego, CA 92152-5001, telephone 619-553-5118, Email: brian.suh@navy.mil.

Authority: 35 U.S.C. 207, 37 CFR part 404.

Dated: May 1, 2015.
N.A. Hagerty-Ford,
Commander, Judge Advocate General's Corps, U.S. Navy, Federal Register Liaison Officer.

[FR Doc. 2015-10954 Filed 5-6-15; 8:45 am]

BILLING CODE 3810-FF-P